DEPARTMENT OF AGRICULTURE

Agricultural Marketing Service

7 CFR Parts 800 and 810

[Doc. No. AMS-FGIS-22-0083]

United States Standards for Soybeans; Correction

AGENCY: Agricultural Marketing Service, USDA.

ACTION: Proposed rule; correction.

SUMMARY: This document corrects the preamble to a proposed rule published in the Federal Register of March 31, 2023 regarding revisions to the United States Standards for Soybeans. This correction provides the corrected docket number for the proposed rule and the necessary ADDRESSES and instructions for interested parties who wish to submit written comments.

DATES: Comments must be submitted on or before May 1, 2023.

ADDRESSES: Interested persons are invited to submit comments on the proposed rule of March 31, 2023. Comments may be submitted through the Federal eRulemaking Portal at https://www.regulations.gov. Follow the online instructions for submitting comments. Please reference Doc. No. AMS-AMS-22-0083. Comments may also be submitted by email to Barry Gomoll at Barry.L.Gomoll@usda.gov.

FOR FURTHER INFORMATION CONTACT: Barry Gomoll, USDA AMS; Telephone: (202) 720-8286; Email: Barry.L.Gomoll@usda.gov. Copies of the current Standards are available at https://www.ams.usda.gov/grades-standards/grain-standards.

SUPPLEMENTARY INFORMATION:

Correction

In the proposed rule, FR Doc #2023-06679, beginning on page 19229 in the issue of March 31, 2023, make the following corrections:

On page 19229, in the third column, in the document headings, correct the docket number to read: [Doc. No. AMS-AMS-22-0083].

On page 19229, in the third column, after the DATES caption, add the following:

ADDRESSES: Interested persons are invited to submit comments on the proposed rule of March 31, 2023. Comments may be submitted through the Federal eRulemaking Portal at https://www.regulations.gov. Follow the online instructions for submitting comments. Please reference Doc. No. AMS-AMS-22-0083. Comments may also be submitted by email to Barry Gomoll at Barry.L.Gomoll@usda.gov.

All comments submitted in response to the proposed rule by the May 1, 2023, deadline will be included in the record and made available to the public. Please be advised that the substance of the comments and the identity of the individuals or entities submitting comments will be subject to public disclosure. AMS will make the comments publicly available on the internet via https://www.regulations.gov.

Bruce Summers,
Administrator, Agricultural Marketing Service.

[FR Doc. 2023-07671 Filed 4-11-23; 8:45 am]

BILLING CODE P